DEPARTMENT OF HOUSING AND URBAN DEVELOPMENT

[Docket No. FR-4724-N-01]

Notice of Funding Availability for the HUD Urban Scholars Fellowship Program

AGENCY: Office of Policy Development and Research, HUD.

ACTION: Notice of Funding Availability (NOFA).

SUMMARY: This NOFA announces the availability of approximately $550,000 in FY 2001 funds for the HUD Urban Scholars program for FY 2002.

Purpose of the Program. To provide encouragement to new scholars to undertake research now, and throughout their careers, on research topics of interest to HUD.

Available Funds. Approximately $550,000 in FY 2001 funding.

Eligible Applicants: Only Ph.D.s who have an academic appointment at an institution of higher education and have received their Ph.D. degrees no earlier than January 1, 1997.

Application Deadline. June 5, 2002.

Match. University support in terms of course load reductions, indirect costs waived, space, etc. are required.

Additional Information

Paperwork Reduction Act Statement

The information collection requirements contained in this NOFA have been approved by the Office of Management and Budget (OMB), under the Paperwork Reduction Act of 1995 (44 U.S.C. 3501-3520) and assigned OMB Control Number 2528-0175. An agency may not conduct or sponsor, and a person is not required to respond to, a collection of information unless the collection displays a valid control number.

I. Application Due Date, Application Kits, Further Information, and Technical Assistance

Application Due Date. Your completed application must be received on or before June 5, 2002.

Address for Submitting Applications. Your completed application consists of an original signed application, which can be submitted in hard copy or electronically. Submit your completed application to the following address: The Fellowship Office/HUD TJ 2041, National Research Council, 2001 Wisconsin Avenue, NW, Washington, DC, 20007. Please mark on the envelope for your application that it is for the HUD Urban Scholars Fellowship Program.

HUD will accept only one application per applicant.

For Application Kits. An application kit can be obtained by calling or writing the Fellowship Office/HUD, TJ 2041, National Research Council, 2001 Wisconsin Avenue, NW, Washington, DC 20007. Telephone number 202-334-2872 and facsimile number 202-334-3419. The application kit can be downloaded from the Internet at: http://national-academies.org/fellowships or at http://www.hud.gov./grants.

For Further Information and Technical Assistance. You may call the above number. You may also write to the National Research Council (NRC) via email at infofell@nas.edu.

II. Amount Allocated

Approximately $550,000 is being made available from the Department's Fiscal Year 2001 appropriation under this NOFA for the HUD Urban Scholars Fellowship Program.

The maximum grant period is 15 months. The performance period will commence on the effective date of the grant agreement.

The maximum amount to be requested by and awarded to an applicant is $55,000. In order to ensure research efforts are focused on specific Departmental priorities, HUD reserves the right to make awards for less than the maximum amount or less than the amount requested in your application.

III. Program Description; Eligible Applicants; Eligible Activities

(A) Program Description. The purposes of the HUD Urban Scholars Program are to:

(1) Fund research relevant to HUD priorities and issues;

(2) Provide encouragement to new scholars to undertake research now, and for the rest of their careers, on research topics of interest to HUD; and

(3) Have an impact on the academic context in which these scholars work so that this kind of research becomes highly valued. The research priorities for the HUD Urban Scholars Program are designed to inform Federal problem-solving and policy-making relating to HUD's strategic goals for this year. Examples of topics addressing these priorities include but are not limited to:

• Homeownership

1. Homeownership

(a) Relative importance of factors in tenure decisions

(b) Estimation of private and social benefits and costs of homeownership

(c) Role in employment, household savings, and investment decisions

(d) Effects of demographics, macro-economic environment and government policies on homeownership

(e) Effects of homeownership on low- and moderate-income households

2. Housing Finance

(a) Institutional barriers to efficiency in the housing finance system

(b) Enabling the housing finance system to better serve low-income and minority borrowers more effectively

3. Home Equity Conversion Mortgages

• Housing Market Conditions

1. Housing Markets

(a) Factors affecting rents, home values, tenure, vacancy rates

(b) Market absorption of new units

(c) Construction activity

2. Housing Stock

(a) Durability of stock

(b) Energy efficiency

(c) Factors determining rehabilitation and remodeling

(d) Comparisons with stock in other developed countries

3. Availability of Affordable Housing

(a) Policy and program options in tight or “soft” markets

(b) Preservation of existing stock

• Equal Opportunity and Access to Housing

1. Effectiveness of different models (including local initiatives) for promoting Fair Housing objectives

2. Discrimination in housing and lending

(a) Methods to detect discrimination

(b) Systemic patterns and practices

• Homelessness

1. Strategies to combat homelessness

(a) Addressing chronic homelessness

(b) Causes of homelessness

(c) Helping families move from transitional to permanent housing

(d) Issues and responses to youth homelessness

• Community and Economic Development

1. Create or expand business

(a) Meet the needs of underserved inner city, older suburb, or rural areas

(b) Expansion of access to capital

(c) Joint ventures with faith-based or other community-based grassroots organizations

1. Development of inner cities

(a) Studies of reinvestment pressures

(b) Theories of capital/land/market failure that help to explain depopulation or disinvestment

(c) Government policies or market interventions that would alleviate these patterns

3. Regionalism and growth management

(a) The economic interdependence of cities and suburbs

(b) Rehabilitation and infill development

(c) Regional problem solving and coalition building

(d) Reinvestment in the urban core

(e) Impact of community economic development policies, programs, and initiatives

• Faith-based and Other Community-based Partnerships

1. Community development and community building

(a) Role of faith-based groups in low-income housing and community development efforts

(b) Faith-based and higher education community building efforts

2. Evaluation of college/community partnerships and institutionalizing these partnerships at colleges and universities

• Assisted Housing Programs

1. Housing needs of the elderly and persons with disabilities

(a) Availability

(b) Design and Quality, including Accessibility

(c) Affordability

(d) Linked services

2. Affordability of rental housing

(a) Innovative partnerships or finance tools

(b) Cost-benefit analyses of alternative methods for providing housing assistance

(c) Effectiveness of voucher programs

(d) Evaluations of existing programs

• Strategies for helping families in public and assisted housing make progress toward self-sufficiency and become homeowners

• Colonias

1. How current policies determine the kinds of housing available

2. The perception of “community” in colonias

3. Evaluation of existing housing programs in colonias

(B) Eligible Applicants. You must have your Ph.D. and meet the following conditions:

(1) You must have an academic appointment with an institution of higher education. This means that you must either be on a tenure track or be on a term (teaching or research) appointment that will extend beyond the 15-month duration of this fellowship;

(2) You must have received your Ph.D. no earlier than January 1, 1997;

(3) It is realistic to believe that your proposed research project can be completed within the 15-month fellowship period;

(4) You must have support from your institution as attested to in the letter described below in Section V (C); and

(5) You must provide appropriate written evidence that you are lawfully admitted for permanent residence in the United States, if you are not a citizen.

(C) Eligible Activities. Your grant must support costs related to completion of your research project. Eligible costs include, but are not limited to, your salary for two summers, graduate assistants to work on the project, up to $2,500 per course for the cost of employing a replacement for the course(s) your university releases you from teaching, computer software, survey development and administration, the purchase of data, travel expenses to collect data or to make presentations at meetings on your findings, transcription services, compensation for interviews, and no more than eight (8) percent of the university's indirect costs.

IV. Application Selection Process

The competition and selection process for this program will be run on HUD's behalf by the National Research Council (NRC). NRC will conduct two types of reviews: A threshold review to determine your eligibility to apply; and a technical review to rate your application based on the rating factors in this section.

(A) Threshold Factors for Funding Consideration. Under this threshold review, your application can only be rated if the following standards are met:

(1) You are eligible to apply for this program, as defined in Section III(B) above, and have provided a letter from your department chair confirming this;

(2) You have obtained a mentor and have included a letter from this person confirming this and describing his/her role in your research; and

(3) Your institution has agreed to provide some support to you, above that provided by this funding, as part of this grant.

(B) Ineligible Activities. Your grant may not be used to pay for tuition, computer hardware, meals, relocation costs, or other costs not directly related to your research project. Fellowship funding cannot be used to substitute for university funding.

(C) Other Requirements.

(1) Support from your university. Support from your university is required. Institutions will be required to contribute, at a minimum, the following:

(a) Designating a faculty advisor to monitor your progress on your research project;

(b) Office space, computer usage, etc.; and

(c) Waived indirect costs above the eight percent (8%) allowed to be covered by this fellowship. In addition, your application will be viewed more favorably if your institution agrees to reduce your course load by at least one course per term or semester, but to continue paying you your full salary.

(2) Progress reporting. You will be required to submit a report, halfway through your fellowship, on the progress you have made towards completion of the research project and the likelihood that you will complete it on time.

(3) Mentors. You will be required to work with a mentor on your research project. The mentor, who can be someone in your institution or elsewhere, should be a well-respected scholar in the area of your research topic. The mentor will be expected to provide you with advice and direction on substantive research issues. The mentor and the faculty monitor described above can be, but do not have to be, the same person.

(4) Compliance with Fair Housing and Civil Rights Laws. All applicants and their subrecipients must comply with all Fair Housing and civil rights laws, statutes, regulations and executive orders as enumerated in 24 CFR 5.105(a). In addition, the applicant and any subrecipients must comply with Title IX of the Education Amendments Act of 1972 (20 U.S.C. 1681 et seq).

If you, the applicant—

(a) Have been charged with a systemic violation of the Fair Housing Act by the Secretary alleging ongoing discrimination;

(b) Are a defendant in a Fair Housing Act lawsuit filed by the Department of Justice alleging an ongoing pattern or practice of discrimination; or

(c) Have received a letter of noncompliance findings under Title VI, Section 504 or Section 109, NRC will not rate and rank your application under this NOFA if the charge, lawsuit or letter of findings has not been resolved to the satisfaction of the Department before the application deadline. HUD's decision whether a charge, lawsuit, or a letter of findings has been satisfactorily resolved will be based upon whether appropriate actions have been taken to address allegations of ongoing discrimination in the policies or practices involved in the charge, lawsuit or letter of findings.

(D) Conflicts of Interest. All individuals involved in rating and ranking this NOFA, including experts and consultants, must avoid conflicts of interest or the appearance of conflicts. Individuals involved in the rating and ranking of applications must disclose to HUD's General Counsel or HUD's Ethics Law Division the following information, if applicable: how the selection or non-selection of any applicant under this NOFA will affect the individual's financial interests, as provided in 18 U.S.C. 208; or, how the application process involves a party with whom the individual has a covered relationship under 5 CFR 2635.502. The individual must disclose this information prior to participating in any matter regarding this NOFA. If you have questions regarding these provisions, or if you have questions concerning a conflict of interest. you may call the Office of General Counsel, Ethics Law Division, at 202-708-3815.

(E) Factors for Award Used to Evaluate and Rate Applications. The factors for rating and ranking applicants, and maximum points for each factor, are provided below. The maximum number of points for this program is 100.

Rating Factor 1: Capacity to do the Research (15 points). In reviewing this factor, NRC will determine the extent to which your training, past employment, and past written work, such as your dissertation, teaching, coursework, and previously completed research papers that were accepted for presentation or publication, lay a foundation for this proposed work.

Rating Factor 2: Need for the Research (20 points). In reviewing this factor, NRC will determine the extent to which your proposed project undertakes research on an area not covered by previous research or proposes to look at a previously studied research topic in a new and different way. Reviewers will look at the clarity and compellingness of the case the applicant makes for this project in the context of the existing literature and knowledge base for that topic.

Rating Factor 3: Approach (40 total points).

(a) Appropriateness of your Methodology and Approach to the Research Topic (25 points). In reviewing this factor, NRC will determine the extent to which your research design and methodology are likely to produce data and information that will successfully answer your research hypotheses. NRC will also evaluate the extent to which the methodology you propose to use is sound and generally accepted by the relevant research community. Reviewers will be looking at the extent to which you use standard methodological practices in line with research already completed or existing publications in the field related to your research questions.

(b) Plan for Timely Completion of Your Research Project (10 points). In reviewing this factor, NRC will determine the extent to which your research design and methodology and plan for completion of your research project can feasibly be completed within the 15-month fellowship period. Applications that propose extremely complex and time-consuming data collection efforts (e.g., major longitudinal studies or a very large number of site visits within the grant period) will be determined to be less feasible of completion within the allowed time frame. For example, if you propose a methodology based on information that may not be publicly available until after the end of the grant period (e.g., census information), or a data collection plan that will take longer than the time you have allowed for it, you will get a lower score than if you have presented a time line and methodology that show evidence that the research project can be completed within the grant period.

(c) Quality of the Mentoring Plan (5 points). In reviewing this factor, NRC will determine the appropriateness of the person chosen to be your mentor (in terms of his/her previous work (e.g., research, publications, presentations, standing in the research community, and availability) and the role the mentor has agreed to play in your project. The higher the time commitment the mentor makes to you, the higher the points you will receive.

Rating Factor 4: Commitment of the University (10 points). In reviewing this factor, NRC will determine the extent of the commitment of your university, beyond that required in Section IV (C)(1). The quality of your institution's commitment, in terms of its furthering your research project, will also be evaluated under this factor. For example, your university could propose to cover the cost of a graduate assistant to work on your research project in order to demonstrate its commitment beyond what is required of it. The larger the commitment, translated into dollar terms, the higher the points. Full points may only be received if your institution agrees to reduce your course load by one course a semester or term and continue paying you your full salary.

Rating Factor 5: Relevance of Your Research to HUD's Strategic Goals (15 points). In reviewing this factor, NRC will determine the extent to which your proposed research project will produce policy-relevant information that is directly related to one or more of the strategic goals listed above (i.e., the research could improve the effectiveness of HUD's programs and policies and the ability to achieve the stated goals). The less directly related to one of these goals your research project is, the fewer points you will receive. For example, a study of minorities' housing choice decisions would have high relevance to HUD's strategic goals; a study of transportation inequities would have medium relevance; and a study of the effects of global warming on urban development would have low relevance.

(F) Selections. HUD will fund applications in rank order, until it has awarded all available funds. However, as noted in Section II, HUD reserves the right to make awards for less than the amount requested in your application. After all application selections have been made, HUD may require that you participate in negotiations to determine the specific terms of the fellowship and the grant budget. In cases where HUD cannot successfully complete negotiations, or you fail to provide HUD with requested information, an award will not be made. In such instances, HUD may elect to offer an award to the next highest-ranking applicant, and proceed with negotiations with that applicant.

V. Application Submission Requirements

You should include an original or electronic copy of your application. Please note the page limits for some of the items listed below and do not exceed them.

The application kit made available by HUD through NRC will require the following items:

(A) SF-424

(B) SF-424-B

(C) SF-424-C

(D) Evidence of your eligibility, including:

(1) A Ph.D. received on or after January 1, 1997;

(2) A letter from your faculty chairperson, including the university's name, department, mailing address, telephone and facsimile numbers, attesting to your appointment to a tenure track or position extending beyond the 15-month duration of this fellowship and describing the support provided by the institution;

(E) Response to Rating Factor 1, your capacity to do the research, including:

(1) Your graduate and post-graduate educational background.

(2) A one-page abstract of your dissertation.

(3) A list of your publications: books, refereed journal articles, chapters contributed to books, articles in published proceedings, and any other articles.

(4) A list of text and poster presentations made during the last five years.

(5) Grants and awards received during the last five years.

(6) Teaching load during the last five years.

(7) Two letters of reference.

(F) Response to Rating Factor 2, need for the research, including,

A succinct description of how your proposal is non-duplicative of previously published research, and how it supports HUD's research agenda.

(G) Response to Rating Factor 3, a description of your work plan, including;

(1) A one-page abstract of your research project.

(2) A narrative of the proposed research, not to exceed 10 double-spaced typed pages.

(3) A working bibliography of your proposed project.

(4) An annotated bibliography, e.g., a two- or three-sentence annotation for ten to twelve key sources in your working bibliography.

(5) A letter from your mentor that includes his/her address, telephone and facsimile number and email address, states his/her qualifications and availability to be your mentor, and describes his/her proposed role in your research project.

(H) Certifications. These forms must be signed by the applicant and can be downloaded from the HUD web site at www.hud.gov.

(1) HUD-2992, Certification regarding debarment and suspension pursuant to 24 CFR part 24.

(2) HUD-50071, Disclosure of lobbying pursuant to 24 CFR part 87.

(3) HUD-50070, Certification of Drug-Free Workplace, pursuant to 24 CFR 24.600 et seq.

VI. Corrections to Deficient Applications

After the application due date, HUD may not, consistent with its regulations in 24 CFR part 4, subpart B, consider any unsolicited information you, the applicant, may want to provide. HUD may contact you to clarify an item in your application or to correct technical deficiencies. HUD may not seek clarification of items or responses that improve the substantive quality of your response to any rating factors. In order not to unreasonably exclude applications from being rated and ranked, HUD may contact applicants to ensure proper completion of the application and will do so on a uniform basis for all applicants. Examples of curable (correctable) technical deficiencies include failure to submit the proper certifications or failure to submit an application that contains an original signature by an authorized official. In each case, HUD will notify you in writing by describing the clarification or technical deficiency. HUD will notify applicants by facsimile or by USPS, return receipt requested. Clarifications or corrections of technical deficiencies in accordance with the information provided by HUD must be submitted within 14 calendar days of the date of receipt of the HUD notification. (If the due date falls on a Saturday, Sunday, or Federal holiday, your correction must be received by HUD on the next day that is not a Saturday, Sunday, or Federal holiday.)

VII. Environmental Requirements

This NOFA does not direct, provide for assistance or loan and mortgage insurance for, or otherwise govern or regulate, real property acquisition, disposition, leasing, rehabilitation, alteration, demolition, or new construction, or establish, revise or provide for standards for construction or construction materials, manufactured housing, or occupancy. Accordingly, under 24 CFR 50.19(C)(1), this NOFA is categorically excluded from environmental review under the National Environmental Policy Act (42 U.S.C. 4321).

VIII. Other Matters

(A) Federalism, Executive Order 13132

This notice does not have federalism implication and does not impose substantial direct compliance costs on State and local governments or preempt State law within the meaning of Executive Order 13132 (entitled “Federalism”).

(B) Conducting Business In Accordance With Core Values and Ethical Standards. Entities subject to 24 CFR parts 84 and 85 (most non-profit organizations and State, local and tribal governments or government agencies or instrumentalities who receive Federal awards of financial assistance) are required to develop and maintain a written code of conduct (see §§ 84.42 and 85.36(b)(3)). Consistent with regulations governing specific programs, your university's code of conduct must: prohibit real and apparent conflicts of interest that may arise among officers, employees, or agents; prohibit the solicitation and acceptance of gifts or gratuities by your officers, employees and agents for their personal benefit in excess of minimal value; and, outline administrative and disciplinary actions available to remedy violations of such standards. If awarded assistance under this NOFA, you will be required, prior to entering into a grant agreement with HUD, to submit a copy of your university's code of conduct.

(C) Prohibition Against Lobbying Activities. You, the applicant, are subject to the provisions of Section 319 of the Department of Interior and Related Agencies Appropriation Act for Fiscal Year 1991 (31 U.S.C. 1352) (the Byrd Amendment), which prohibits recipients of Federal contracts, grants, or loans from using appropriated funds for lobbying the executive or legislative branches of the Federal government in connection with a specific contract, grant, or loan. You are required to certify, using the certification found at Appendix A to 24 CFR part 87, that you will not and have not used appropriated funds for any prohibited lobbying activities. In addition, you must disclose, using Standard Form LLL “Disclosure of Lobbying Activities,” any funds, other than federally appropriated funds, that will be or have been used to influence Federal employees, members of Congress, and congressional staff regarding specific grants or contracts. Federally recognized Indian tribes and tribally designated housing entities (TDHEs) established by federally recognized Indian tribes as a result of the exercise of the tribe's sovereign power are excluded from coverage of the Byrd Amendment, but State-recognized Indian tribes and TDHEs established under State law must comply with this requirement.

(D) Section 102 of the HUD Reform Act, Documentation and Public Access Requirements. Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992, HUD published a notice that also provides information on the implementation of Section 102 (57 FR 1942). The documentation, public access, and disclosure requirements of Section 102 apply to assistance awarded under this NOFA as follows:

(1) Documentation and public access requirements. HUD will ensure that documentation and other information regarding each application submitted pursuant to this NOFA are sufficient to indicate the basis upon which assistance was provided or denied. This material, including any letters of support, will be made available for public inspection for a five-year period beginning not less than 30 days after the award of the assistance. Material will be made available in accordance with the Freedom of Information Act (5 U.S.C. 552) and HUD's implementing regulations (24 CFR part 15).

(2) Debriefing. Beginning not less than 30 days after the awards for assistance are announced in the above-mentioned Federal Register notice and for at least 120 days after awards for assistance are announced, HUD will provide a debriefing to any applicant requesting one on their application. All debriefing requests must be made in writing or by email by the authorized official whose signature appears on the SF-424 or his or her successor in office, and submitted to the organization identified in the section entitled “For Further Information and Technical Assistance.” Information provided during a debriefing will include, at a minimum, the final score you received for each rating factor, final evaluator comments for each rating factor, and the final assessment indicating the basis upon which assistance was provided or denied.

(3) Disclosures. HUD will make available to the public for five years all applicant disclosure reports (HUD Form 2880) submitted in connection with this NOFA. Update reports (also reported on HUD Form 2880) will be made available along with the applicant disclosure reports, but in no case for a period of less than three years. All reports, both applicant disclosures and updates, will be made available in accordance with the Freedom of Information Act (5 U.S.C. 552) and HUD's implementing regulations (24 CFR part 5).

(4) Publication of Recipients of HUD Funding. HUD's regulations at 24 CFR part 4 provide that HUD will publish a notice in the Federal Register to notify the public of all decisions made by the Department to provide:

(i) Assistance subject to Section 102(a) of the HUD Reform Act; and/or

(ii) Assistance provided through grants or cooperative agreements on a discretionary (non-formula, non-demand) basis, but that is not provided on the basis of a competition.

(E) Section 103 of the HUD Reform Act. HUD's regulations implementing Section 103 of the Department of Housing and Urban Development Reform Act of 1989 (42 U.S.C. 3537a), codified in 24 CFR part 4, subpart B, apply to this funding competition. The regulations continue to apply until the announcement of the selection of successful applicants. HUD employees involved in the review of applications and in the making of funding decisions are limited by the regulations from providing advance information to any person (other than an authorized employee of HUD) concerning funding decisions or from otherwise giving any applicant an unfair competitive advantage. Persons who apply for assistance in this competition should confine their inquiries to the subject areas permitted under 24 CFR part 4.

Applicants or employees who have ethics related questions should contact the HUD Ethics Law Division at 202-708-3815. (This is not a toll-free number.) HUD employees who have specific program questions should contact the appropriate field office counsel or Headquarters counsel for the program to which the question pertains. The Catalogue of Federal Domestic Assistance number is: 14.506.

IX. Authority

The authority for this program is found in Title V of the Housing and Urban Development Act of 1970 (Pub. L. 91-609).

Dated: April 25, 2002.
Lawrence L. Thompson,
General Deputy Assistant Secretary for Policy Development and Research.

[FR Doc. 02-10726 Filed 4-30-02; 8:45 am]

BILLING CODE 4210-62-P